DEPARTMENT OF THE INTERIOR

Minerals Management Service

Outer Continental Shelf (OCS) Scientific Committee of the Minerals Management Advisory Board; Announcement of Plenary Session

AGENCY: Minerals Management Service, Interior.

ACTION: Notice of meeting.

SUMMARY: The Minerals Management Advisory Board OCS Scientific Committee will meet at the Holiday Inn and Suites in Alexandria, Virginia.

DATES: Tuesday, April 23, and Wednesday April 24, 2002, from 8:30 a.m. to 5:00 p.m.; Thursday, April 25, from 8:30 to noon.

ADDRESSES: The Holiday Inn and Suites, 625 First Street, Alexandria, Virginia 22314, telephone (703) 548-6300.

FOR FURTHER INFORMATION CONTACT: Mr. Robert L. LaBelle or Ms. Julie Reynolds at the address or phone numbers listed below.

SUPPLEMENTARY INFORMATION: The OCS Scientific Committee is an outside group of scientists which advises the Director, MMS, on the feasibility, appropriateness, and scientific merit of the MMS OCS Environmental Studies Program as it relates to information needed for informed OCS decisionmaking.

The Committee will meet in plenary session on Tuesday, April 23. Presentations will be made by the Director, MMS, the Associate Director for Offshore Minerals Management, and a representative from the OCS Policy Committee. After these presentations, the rest of the day will be filled by presentations from the MMS regional studies chiefs on their research priorities and needs in the context of regional decisionmaking.

On Wednesday, April 24, the Committee will meet in discipline subcommittee breakout sessions to review the specific research plans of the regions for Fiscal Year 2003 and 2004.

On Thursday, April 25, the Committee will meet in plenary session to discuss subcommittee reports and to conduct Committee business.

The meetings are open to the public. Approximately 30 visitors can be accommodated on a first-come-first-served basis at the plenary session.

A copy of the agenda may be requested from MMS by calling Ms. Julie Reynolds at (703) 787-1211. Other inquiries concerning the OCS Scientific Committee meeting should be addressed to Mr. Robert LaBelle, Executive Secretary to the OCS Scientific Committee, Minerals Management Service, 381 Elden Street, Mail Stop 4040, Herndon, Virginia 20170-4817 or by calling (703) 787-1656.

Authority: Federal Advisory Committee Act, Pub. L. 92-463, 5 U.S.C., Appendix I, and the Office of Management and Budget's Circular A-63, Revised.

Dated: February 21, 2002.
Thomas A. Readinger,
Associate Director for Offshore Minerals Management.

[FR Doc. 02-7800 Filed 3-29-02; 8:45 am]

BILLING CODE 4043-MR-P